DEPARTMENT OF AGRICULTURE

Submission for OMB Review; Comment Request

July 10, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Nomination Request Form; Animal Disease Training.

OMB Control Number: 0579-NEW.

Summary of Collection: Under the Animal Health Protection Act (7 U.S.C., 8301), the Animal and Plant Health Inspection Service (APHIS) is authorized among other things, to prohibit or restrict the importation and interstate movement of animals and animal products to prevent the introduction into and dissemination within the United States. The Professional Development Staff (PDS) of Veterinary Services within APHIS provides vital training to State, Industry, and University personnel which prepare them for animal disease response. To determine the need and demand for such courses, PDS must collect information from individuals who wish to attend training events facilitated by PDS.

Need and Use of the Information: Information will be collected from State, industry, and university personnel who desire to attend a PDS-sponsored training event. Prior to every PDS-facilitated event, respondents will submit a completed Nomination/Registration Request Form (VS Form 1-5) to the Regional Training Coordinators. Names, work addresses, work phone numbers, work e-mail addresses, agency/organization affiliation, and job title as well as supervisor and region approval is needed to produce participant rosters once course selections are made. Without the collection of this information, PDS cannot conduct training events to educate Federal, State and private veterinarians on eradication of diseases and sample collection.

Description of Respondents: Business or other for-profit; State, Local or Tribal Government.

Number of Respondents: 552.

Frequency of Responses: Recordkeeping; Reporting: On occasion.

Total Burden Hours: 712.

Animal & Plant Health Inspection Service

Title: Gypsy Moth Identification Worksheet.

OMB Control Number: 0579-0104.

Summary of Collection: Under the Plant Protection Act (7 U.S.C. 7701-7772), the Secretary of Agriculture either independently or in cooperation with the States, is authorized to carry out operations or measures to detect, eradicate, suppress, control, prevent, or retard the spread of plant pests new to the United States or not widely distributed throughout the United States. The Plant Protection and Quarantine Service (PPQ) of the Animal and Plant Health Inspection Service (APHIS) engage in detection surveys to monitor the presence of the European gypsy moth and the Asian gypsy moth. The European gypsy moth is one of the most destructive pests of fruit and ornamental trees as well as hardwood forests. The Asian gypsy moth is an exotic strain of gypsy moth that is closely related to the European variety already established in the U.S. This strain is considered to pose an even greater threat to trees and forested areas. In order to determine the presence and extent of a European gypsy moth or an Asian gypsy moth infestation, APHIS sets traps in high-risk areas to collect specimens.

Need and Use of the Information: APHIS will collect information from the Gypsy Moth Identification Worksheet, PPQ Form 305, to identify and track specific specimens that are sent for test based on DNA analysis. This information collected is vital to APHIS's ability to monitor, detect, and eradicate gypsy moth infestations, and the worksheet is completed only when traps are found to contain specimens. Information on the worksheet includes the name of the submitter, the submitter's agency, the date collected, the trap number, the trap's location (including the nearest port of entry), the number of specimens in the trap, and the date the specimen was sent to the laboratory.

Description of Respondents: State, Local or Tribal Government; Federal Government.

Number of Respondents: 120.

Frequency of Responses: Reporting; On occasion.

Total Burden Hours: 41.

Ruth Brown,
Departmental Information Collection Clearance Officer.

[FR Doc. E8-16163 Filed 7-14-08; 8:45 am]

BILLING CODE 3410-34-P